DEPARTMENT OF THE INTERIOR

Fish and Wildlife Service

Notice of Availability of an Environmental Assessment/Habitat Conservation Plan for Golden-Cheeked Warbler and Receipt of Application for Development and Construction Activities on the 153-Acre Property on City Park Road, Travis County, TX (K&W Webb Family Partnership, LTD.)

AGENCY: Fish and Wildlife Service, Interior.

ACTION: Notice of availability.

SUMMARY: K&W WEBB FAMILY PARTNERSHIP, LTD. (Applicant) has applied for an incidental take permit (TE-162051-0) pursuant to Section 10(a)(1)(B) of the Endangered Species Act of 1973, as amended (Act). The requested permit would authorize incidental take of the endangered golden-cheeked warbler (Dendroica chrysoparia). The proposed take would occur as a result of general development and construction activities on 153-acre Webb Tract on City Park Road, Travis County, Texas.

DATES: To ensure consideration, written comments must be received on or before November 19, 2007.

ADDRESSES: Persons wishing to review the application may obtain a copy by writing to the Regional Director, U.S. Fish and Wildlife Service, P.O. Box 1306, Room 4102, Albuquerque, New Mexico 87103. Persons wishing to review the Environmental Assessment/Habitat Conservation Plan (EA/HCP) may obtain a copy by contacting Bill Seawell, U.S. Fish and Wildlife Service, 10711 Burnet Road, Suite 200, Austin, Texas 78758 (512/490-0057). Documents will be available for public inspection by written request, by appointment only, during normal business hours (8 a.m. to 4:30 p.m.) at the U.S. Fish and Wildlife Service at the above address. Written data or comments concerning the application and EA/HCP should be submitted to Adam Zerrenner, Field Supervisor, U.S. Fish and Wildlife Service, Austin, Texas, at the above address. Please refer to permit number TE-162051-0 when submitting comments.

FOR FURTHER INFORMATION CONTACT: Bill Seawell at the U.S. Fish and Wildlife Service, 10711 Burnet Road, Suite 200, Austin, Texas 78758 (512/490-0057) or by e-mail, Bill_Seawell@fws.gov.

SUPPLEMENTARY INFORMATION: Section 9 of the Act prohibits the “taking” of endangered species such as the Golden-cheeked warbler. However, the Fish and Wildlife Service (Service), under limited circumstances, may issue permits to take endangered wildlife species incidental to, and not the purpose of, otherwise lawful activities. Regulations governing permits for endangered species are at 50 CFR 17.22.

The Service has prepared the EA/HCP for the incidental take application. A determination of jeopardy or non-jeopardy to the species and a decision pursuant to the National Environmental Policy Act (NEPA) will not be made until at least 60 days from the date of publication of this notice. This notice is provided pursuant to Section 10(c) of the Act and National Environmental Policy Act regulations (40 CFR 1506.6).

Applicant: The K&W Webb Family Partnership, Ltd plans to develop a 153-acre property on City Park Road, Travis County, Texas. This action will eliminate 122.88 acres of golden-cheeked warbler habitat and result in indirect impacts on and off the property. The Applicant proposes to compensate for this incidental take of the golden-cheeked warbler by setting aside an on-site preserve of 28.69 acres and payment of mitigation ($5,000 per acre as of July 2007) to the Balcones Canyonlands Preserve. This money shall be used for the purchase of golden-cheeked warbler habitat within western Travis County.

Christopher T. Jones,
Acting Regional Director, Region 2.

[FR Doc. 07-5159 Filed 10-17-07; 8:45 am]

BILLING CODE 4510-55-P